DEPARTMENT OF JUSTICE

Antitrust Division

Notice Pursuant to the National Cooperative Research and Production Act of 1993—Wireless Application Protocol Forum, Ltd.

Notice is hereby given that, on November 20, 2001, pursuant to section 6(a) of the National Cooperative Research and Production Act of 1993, 15 U.S.C. 4301 et seq. (“the Act”), Wireless Application Protocol Forum, Ltd. (“WAP”) has filed written notifications simultaneously with the Attorney General and the Federal Trade Commission disclosing changes in its membership status. The notifications were filed for the purpose of extending the Act's provisions limiting the recovery of antitrust plaintiffs to actual damages under specified circumstances. Specifically, Research in Motion Limited, Waterloo, Ontario, CANADA; and XFERA Moviles S.A., Madrid, SPAIN have been added as parties to this venture. Schlumberger Systems, Montrouge, FRANCE has acquired Sema Group, Toronto, Ontario, CANADA. Telecommunications Systems, Inc., Annapolis, MD has acquired XYPoint, Seattle, WA. Comverse Network, Wakefield, MA has changed its name to Comverse; Dr. Materna GmbH, Dortmund, GERMANY has changed its name to Materna Information & Communications; Mitsubishi Wireless Comm., Nanterre Cedex, FRANCE has changed its name to Mitsubishi Electric Telecom; IntraNet Solutions, Inc., Eden Prarie, MN has change its name to Stellent, Inc.; and Zuercher Kantonalbank, Zurich, SWITZERLAND has changed its name to Zurich Cantonalbank. Also, 3ui.com Pte Ltd, Singapore, SINGAPORE; A.A.T. Analysis Automation trading S.r.l, Florence, ITALY; Acer Communication & Multimedia Inc., Taipei, TAIWAN; Adam Comsof Ltd., Mumbai, INDIA; ADC, San Jose, CA; AddTrust AB, Malmo, SWENDEN; Adeptra Limited, Reading, Berkshire, UNITED KINGDOM; Altis Consulting Ltd, Thatcham, Berkshire, UNITED KINGDOM; AOL Europe, London, UNITED KINGDOM; AsiaInfo Holdings, Inc., Santa Clara, CA; Basic Six Integration, LLC, Palo Alto, CA; Bidhit.com, Inc., Kirkland, WA; Bowstreet Software, Inc., Portsmouth, NH; CCL/ITRI, Chutung, Hsinchu, TAIWAN; Cellmania, Inc., Mountain View, CA; Citigroup, Los Angeles, CA; Commtouch, Inc., Netanya, ISRAEL; Connect Austria, Vienna AUSTRIA; CR2 Limited, Dublin, IRELAND; CT Motion, Rosh Ha'ayin, ISRAEL; Dennotai, Co., Ltd., Tokyo, JAPAN; eDispatch.com Wireless Data Inc., Burnaby, British Columbia, CANADA; Eircell Plc 2000, Dublin, IRELAND; Entra Data AB, Stockholm, SWEDEN; Esat Digifone, Dublin, IRELAND; Etensity, Vienna, VA; Finesse Alliance International Pte Ltd, Singapore, SINGAPORE; Framfab, Stockholm, SWEDEN; Free Rain, Bellevue, WA; FST Fabbrica Servizi Telematici, Sarroch (CA), ITALY; GiantBear.com, White Plains, NY; Google, Inc., Mountain View, CA; GroupServe, Inc., Washington, DC; Guide Konsult AB, Solna, SWEDEN; HCL Technologies Ltd., Noida, UP, INDIA; ICO Global Communications, London, UNITED KINGDOM; In Fusio, Bordeaux, FRANCE; Informix Software, Inc., Menlo Park, CA; Infovention, Stockholm, SWEDEN; Interactive Trust Network, Inc., Atlanta, GA; Intrinsic Technology Limited (Shanghai), Shanghai, PEOPLE'S REPUBLIC OF CHINA; IONA Technologies, Inc., Waltham, MA; IT Network, Inc., Irving, TX; iXL Enterprises, Inc., Atlanta, GA; Jacada Inc., Atlanta, GA; JP Systems, Inc., Dallas, TX; Jumbuck Corporation Ltd., Melbourne, Victoria, AUSTRALIA; KG Telecommunications Co., Ltd., Taipei, TAIWAN; Kipling Systems AB, Karlskrona, SWEDEN; KnowledgePool Tieturi, Helsinki, FINLAND; Lava2140, Inc, Los Angeles, CA; LookSmart Ltd., San Francisco, CA; m-IQ Ltd.; London, UNITED KINGDOM; Macalla Software Ltd., Dublin, IRELAND; MapInfo Corporation, Troy, NY; Maporama, Paris Cedex, FRANCE; Marathon Technologies Corporation, Boxborough, MA; mCentric KSD, S.A., London, UNITED KINGDOM; ME.net Network Inc., New York, NY; Mercury Interactive Corporation, Sunnyvale, CA; Millenium Information Technologies, Colombo, SRI LANKA; Mobile Reach, Inc., Hillsborough, NC; MobileSoft Pty Limited, Sydney, New South Wales, AUSTRALIA; MobileSys, Inc., Mountain View, CA; Modem Media, Norwalk, CT; mvion, San Ramon, CA; MyAlert.com, SA, Madrid, SPAIN; MyWay.com, Andover, MA; Nettech Systems, Inc., Princeton, NJ; New Era of Networks Neon, Englewood, CO; NoTime Wireless, Halifax, Nova Scotia, CANADA; NotWired, Inc., Chicago, IL; OnDisplay, Inc., San Ramon, CA; OpenTV, Inc., Mountain View, CA; Outercurve Technologies, Inc., New York, NY; Oven Digital, Inc., New York, NY; PhoneOnline.com, Knoxville, TN; Probaris Technologies, Inc., Philadelphia, PA; Psion Computers Plc, London, UNITED KINGDOM; Quios, Inc., San Francisco, CA; R/GA, New York, NY; Rapp Digital Direct, Inc., New York, NY; Rare Medium Inc., New York, NY; Razorfish, Inc., Helsinki, FINLAND; ReadyCom, Inc., Chapel Hill, NC; Satama Interactive, Helsinki, FINLAND; Semotus Solutions, San Jose, CA; Sensei Limited, Aylesbury, Buckinghamshire, UNITED KINGDOM; Servicesoft, Inc., Natick, MA; Shenzhen New World Xianglong, Shen Zhen, Guangdong Province, PEOPLE'S REPUBLIC OF CHINA; Shenzhen Zhongxing-Suntek Data, Beijing, PEOPLE'S REPUBLIC OF CHINA; SmartServ Online, Inc., Stamford, CT; SolidStreaming, Inc., New York, NY; Sonata.com, New York, NY; Summus Limited, Raleigh, NC; SUNDAY O/B Mandarin, Quarry Bay, HONG KONG-CHINA; Surrey & City Consulting, Sutton, Surrey, UNITED KINGDOM; Taviz Technology, Inc., Palo Alto, CA; Teleknowledge Group, Kfar Saba, ISRAEL; TELESP CELULAR PARTICIPACOES, Sao Paulo, BRAZIL; Telxon Corp., The Woodlands, TX; Trema Laboratories SARL, Valbonne, FRANCE; Unimobile, Inc., Santa Clara, CA; UUNet Technologies Inc., Ashburn, VA; ValiCert, Inc., Mountain view, CA; Vanteon, Pittsford, NY; VAST Solutions, Inc., Addison, TX; Viafone, Redwood City, CA; Viridien Technologies, Inc., Boxborough, MA; VirtualTek Corporation, Seoul, REPUBLIC OF KOREA; Webtop DZ, Cambridge, UNITED KINGDOM; WellMed, Inc., Portland, OR; Wind Telecomumicaenmi SPA, Rome, ITALY; Zygo Communications Ltd., London, UNITED KINGDOM; abeama, inc., Clearwater, FL; Adcore AB, Sundbyberg, SWEDEN; Adera AB, Gothenburg, SWEDEN; Air2Web, Atlanta, GA; Airtel Movil, S.A., Madrid, SPAIN; Amazon.com, Seattle, WA; AtoBe, Naarden, THE NETHERLANDS; Axel Digital Group Oy, Helsinki, FINLAND; Centre for Wireless Communications, Singapore, SINGAPORE; CitiKey, London, UNITED KINGDON; Clarkston Potomac Group, Durham, NC; CoCoNet Global Interchange GmbH, Erkrath, GERMANY; Electronic Buriness Research Center, Hsinchu, TAIWAN; Evolving Systems, Inc., Englewood, CO; F5 Networks, Seattle, WA; Info2cell.com, Dubai Internet City, JORDAN; Infocomm Development Authority of Singapore, Singapore, SINGAPORE; Infowave Software, Inc., Burnaby, British Columbia, CANADA; Interleaf Inc., Waltham, MA; Ionic Microsystems Pvt. Ltd., Bangalore, INDIA; MACH SA, Bertrange, LUXEMBOURG; MobileOne Pte. Ltd., Singapore, SINGAPORE; MobileQ, Inc., Toronto, Ontario, CANADA; MovilGo Systems, Coral Gables, FL; Multimap.com, London, UNITED KINGDOM; NetLight Consulting AB, Solna, SWEDEN; Nexgeniz, Inc., Irvine, CA; OverNet Data, London, UNITED KINGDOM; Passcall Advanced Technologies LTD, Tirat Hacarmel, ISRAEL; Plumtree Software, Inc., San Francisco, CA; Red-M Limited, Wexham, Slough, Buckinghamshire, UNITED KINGDOM; ReefEdge, Inc., Fort Lee, NJ; SBC Communications Inc., Austin, TX; SeeBeyond, Redwood City, CA; SensCom, Inc., San Diego, CA; Silverline Technologies, Piscataway, NJ; Spyrus, Inc., San Jose, CA; STMicroelectronics, Inc., Vernier, SWITZERLAND; SurfControl plc, Congleton, Cheshire, UNITED KINGDOM; ThatWeb.com Private Limited, Singapore, SINGAPORE; The Met.Office, Bracknell, Berkshire, UNITED KINGDOM; Walker Digital, Stamford, CT; Xmarc, Inc., San Jose, CA; Xtempus, London, UNITED KINGDOM; YesMobile Holdings Co., Ltd;, Hong Kong, HONG KONG-CHINA; Zucotto Wireless, Ottawa, Ontario, CANADA and Cap Gemini Ernst & Young, Paris, FRANCE have been dropped as parties to this venture.

No other changes have been made in either the membership or planned activity of the group research project. Membership in this group research project remains open, and WAP intends to file additional written notifications disclosing all changes in membership.

On March 18, 1998, WAP filed its original notification pursuant to section 6(a) of the Act. The Department of Justice published a notice in the Federal Register pursuant to section 6(b) of the Act on December 31, 1998 (63 FR 72333).

The last notification was filed with the Department on July 12, 2001. A notice was published in the Federal Register pursuant to section 6(b) of the Act on November 13, 2001 (66 FR 56862).

Constance K. Robinson,
Director of Operations, Antitrust Division.

[FR Doc. 02-5538 Filed 3-7-02; 8:45 am]

BILLING CODE 4410-11-M